GENERAL SERVICES ADMINISTRATION

Federal Travel Regulation (FTR) Maximum Per Diem Rates for the States of California, Georgia, Idaho, Kentucky, Louisiana, Maryland, Mississippi, Missouri, Montana, Ohio, South Carolina, Utah and Wyoming

AGENCY: Office of Governmentwide Policy, General Services Administration (GSA).

ACTION: Notice of Per Diem Bulletin 07-03, revised continental United States (CONUS) per diem rates.

SUMMARY: The General Services Administration (GSA) has reviewed the lodging rates for certain locations in the States of California, Georgia, Idaho, Kentucky, Louisiana, Maryland, Mississippi, Missouri, Montana, Ohio, South Carolina, Utah and Wyoming, using more current lodging industry data, as well as data on where Federal travelers actually stay when visiting these locations. Also, GSA has reviewed the meals and incidental expenses (M&IE) rate for certain locations in the States of Georgia, Idaho, Louisiana, Missouri, Mississippi, Utah and Wyoming. The per diem rates prescribed in Bulletin 07-03 may be found at http://www.gsa.gov/perdiem.

DATES: This notice is effective March 30, 2007 and applies to travel performed on or after March 30, 2007.

FOR FURTHER INFORMATION CONTACT: For clarification of content, contact Mr. Cy Greenidge, Office of Governmentwide Policy, Travel Management Policy, at (202) 219-2349. Please cite FTR Per Diem Bulletin 07-03.

SUPPLEMENTARY INFORMATION:

A. Background

After an analysis of the per diem rates established for FY 2007 (see the Federal Register notice at 71 FR 43772, August 2, 2006), the per diem rate is being changed in the following locations:

State of California

• Alameda County

• Monterey County

• Santa Barbara County

• San Mateo County

State of Georgia

• Chatham County

• Clayton County

• Coweta County

• Fayette County

State of Idaho

Elmore County

State of Kentucky

• Kenton County

State of Louisiana

• Lafayette Consolidated Government

State of Maryland

• Frederick County

State of Mississippi

• Desoto County

• Forrest County

• Grenada County

• Lamar County

State of Missouri

• Boone County

State of Montana

• Silver Bow

State of Ohio

• Clermont County

• Hamilton County

State of South Carolina

• Charleston County

• Berkeley County

• Dorchester County

State of Utah

• Davis County

State of Wyoming

• Campbell County

• Natrona County

• Sheridan County

• Sweetwater County

• Uinta County

Per diem rates are published on the Internet at http://www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: March 20, 2007.
Becky Rhodes,
Deputy Associate Administrator, Office of Transportation and Personal Property.

[FR Doc. E7-5481 Filed 3-23-07; 8:45 am]

BILLING CODE 6820-14-P